DEPARTMENT OF JUSTICE

Immigration and Naturalization Service

8 CFR Part 214

[INS No. 2038-99]

RIN 1115-AF68

Adding Cleveland, Ohio, Ft. Myers, Florida, and San Jose, California to the List of Ports-of-Entry Accepting Applications for Direct Transit Without Visa

AGENCY: Immigration and Naturalization Service, Justice.

ACTION: Final rule.

SUMMARY: This rule amends the Immigration and Naturalization Service (Service) regulations by adding Cleveland, Ohio, Ft. Myers, Florida, and San Jose, California, to the list of ports-of-entry where, except for transit from one part of foreign contiguous territory to another part of the same territory, an alien must make application for admission to the United States for direct transit without visa. This change is necessary to accommodate the increase in international commerce serving Cleveland, Ohio, Ft. Myers, Florida, and San Jose, California.

DATES: This rule is effective February 16, 2000.

FOR FURTHER INFORMATION CONTACT: Robert F. Hutnick, Assistant Chief Inspector, Immigration and Naturalization Service, 425 I Street, NW, Room 4064, Washington, DC 20536, telephone number (202) 616-7499.

SUPPLEMENTARY INFORMATION:

What Does This Final Rule Change?

This final rule adds Cleveland, Ohio, Ft. Myers, Florida, and San Jose, California, to 8 CFR 214.2(c)(1) as ports-of-entry where, except for transit from one part of foreign contiguous territory to another part of the same territory, application for direct transit without visa must be made.

Why Is the Service Making This Change?

The Cleveland Hopkins International Airport in Cleveland, Ohio, recently began daily nonstop service between Cleveland and the United Kingdom's London Gatewick Airport. Passengers wishing to travel between Canada and London via Cleveland will benefit from this rule change. The Southwest Florida International Airport in Ft. Myers, Florida, has added additional international passenger service, specifically arrivals transiting between the German Federal Republic and Mexico. In addition, the designation of the airport at San Jose, California, as a transit without visa port-of-entry will allow carriers to accept passengers transiting between the Far East and Latin America. By allowing these airports to accept applications for direct transit without visa, they will be able to accommodate these transit air passengers.

Administrative Procedures Act

Compliance with 5 U.S.C. 553(a)(2) as to notice of proposed rulemaking and delayed effective date is unnecessary as this rule relates to agency management, and accordingly, is not a “rule” as that term is used by the Congressional Review Act (Subtitle E of the Small Business Regulatory Enforcement Fairness Act of 1996 (SBREFA)). Therefore the reporting requirement of 5 U.S.C. 801 does not apply.

Regulatory Flexibility Act

The Commissioner of the Immigration and Naturalization Service, in accordance with the Regulatory Flexibility Act (5 U.S.C. 605(b)), has reviewed this regulation and, by approving it, certifies that this rule will not have a significant economic impact on a substantial number of small entities. This rule merely allows the Cleveland, Ohio, Ft. Myers, Florida, and San Jose, California, airports to accommodate individual international passengers by providing authority to carriers to accept applications for direct transit without visa.

Executive Order 12866

This regulation has been drafted and reviewed in accordance with Executive Order 12866, “Regulatory Planning and Review” section 1(b), Principles of Regulation. This rule falls within a category of actions that the Office of Management and Budget (OMB) has determined not to constitute “significant regulatory action” under Executive Order 12866, section 3(f), Regulatory Planning and Review, and accordingly this rule has not been reviewed by OMB.

Executive Order 13132

This regulation will not have substantial direct effects on the States, on the relationship between the National Government and the States, or on the distribution of power and responsibilities among the various levels of government. Therefore, in accordance with section 6 of Executive Order 13132, it is determined that this rule does not have sufficient federalism implications to warrant the preparation of a federalism summary impact statement.

List of Subjects in 8 CFR Part 214

Administrative practice and procedure, Aliens, Passports, and Visas.

Accordingly, part 214 of chapter I of title 8 of the Code of Federal Regulations is amended as follows:

PART 214—NONIMMIGRANT CLASSES

1. The authority citation for part 214 continues to read as follows:

Authority: 8 U.S.C. 1101, 1103, 1182, 1184, 1186a, 1187, 1221, 1281, 1282; 8 CFR part 2.

§ 214.2 [Amended]

2. In § 214.2, paragraph (c)(1) is amended in the fourth sentence by:

a. Adding “Cleveland, OH,” immediately after “Christiansted, VI,”

b. Adding “Ft. Myers, FL,” immediately after “Fairbanks, AK,” and by

c. Adding “San Jose, CA,” immediately after “San Francisco, CA,”.

Dated: February 4, 2000.
Doris Meissner,
Commissioner, Immigration and Naturalization Service.

[FR Doc. 00-3584 Filed 2-15-00; 8:45 am]

BILLING CODE 4410-10-M